DEPARTMENT OF COMMERCE

International Trade Administration

[A-533-820]

Certain Hot-Rolled Carbon Steel Flat Products From India: Notice of Intent to Rescind Administrative Review

AGENCY: Import Administration, International Trade Administration, Department of Commerce.

SUMMARY: After initiating a review of the antidumping duty order on certain hot-rolled carbon steel flat products from India covering the period December 1, 2004, through November 30, 2005, the sole respondent, Essar Steel Ltd., claimed it did not ship subject merchandise to the United States during the period of review (POR). Based on record evidence consistent with this claim, the Department of Commerce intends to rescind the instant administrative review.

EFFECTIVE DATE: July 14, 2006.

FOR FURTHER INFORMATION CONTACT: Jeffrey Pedersen or Howard Smith, AD/CVD Operations, Office 4, Import Administration, International Trade Administration, U.S. Department of Commerce, 14th Street and Constitution Avenue, NW., Washington, DC 20230, telephone: (202) 482-2769 or (202) 482-5193, respectively.

SUPPLEMENTARY INFORMATION:

Background

On December 1, 2005, the Department of Commerce (the Department) published, in the Federal Register, a notice of the opportunity to request an administrative review of the antidumping duty order on certain hot-rolled carbon steel flat products (HRS) from India, covering the period December 1, 2004, through November 30, 2005. See Antidumping or Countervailing Duty Order, Finding, or Suspended Investigation; Opportunity to Request Administrative Review, 70 FR 72109 (December 1, 2005). On December 30, 2005 and January 3, 2006, Nucor Corporation and U.S. Steel Corporation (collectively, petitioners), respectively, requested an administrative review of the above-referenced antidumping order with respect to Essar Steel Ltd. (Essar). On February 1, 2006, the Department initiated the requested administrative review. See Initiation of Antidumping and Countervailing Duty Administrative Reviews and Request for Revocation in Part, 71 FR 5241 (February 1, 2006). On February 10, 2006, Essar submitted a letter to the Department in which it certified that it made no shipments of subject merchandise to the United States during the POR.

Scope of the Order

The products covered by the antidumping duty order are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of the order.

Specifically included within the scope of the order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of the order, regardless of definitions in the Harmonized Tariff Schedule of the United States (HTSUS), are products in which: i) Iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of the order unless otherwise excluded. The following products, by way of example, are outside or specifically excluded from the scope of the order:

• Alloy HRS products in which at least one of the chemical elements exceeds those listed above (including, e.g., American Society for Testing and Materials (ASTM) specifications A543, A387, A514, A517, A506).

• Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to the order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by the order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and customs purposes, the written description of the merchandise under review is dispositive.

Intent to Rescind the Administrative Review

Pursuant to 19 CFR § 351.213(d)(3), the Department may rescind an administrative review of a particular exporter or producer if it concludes, with respect to that exporter or producer, that there were no entries, exports, or sales of the subject merchandise, as the case may be, during the POR. After receiving Essar's “no shipments” claim, the Department examined Customs and Border Protection (CBP) entry data for the POR. These data support the conclusion that there were no entries, exports, or sales of subject merchandise from Essar during the POR. See memorandum to the file from Kavita Mohan dated July 7, 2006. Further, on March 23, 2006, the Department requested that CBP notify it within 10 days if CBP had evidence of exports of subject merchandise from Essar during the POR. CBP has not notified the Department of such exports. See the memorandum to the file from Jeff Pedersen dated March 29, 2006. Therefore, in accordance with 19 CFR § 351.213(d)(3), and consistent with our practice, we have preliminarily determined to rescind this review. See, e.g., Certain Steel Concrete Reinforcing Bars From Turkey; Final Results, Rescission of Antidumping Duty Administrative Review in Part, and Determination not to Revoke in Part, 68 FR 53127 (September 9, 2003) (after finding no evidence of entries of subject merchandise from two companies that made “no shipments” claims, the Department stated that “consistent with our practice, we are rescinding our review for Diler and Ekinciler”). If, however, Essar's subject merchandise did enter the United States during the POR by way of intermediaries, and this merchandise entered under CBP's antidumping case number for Essar, the Department will instruct CBP to liquidate such entries at the “all-others” rate in effect on the date of the entry. See Antidumping and Countervailing Duty Proceedings: Assessment of Antidumping Duties, 68 FR 23954 (May 6, 2003).

Public Comment

Interested parties may submit case briefs and request a hearing within 30 days after the date of publication of this preliminary notice. See 19 CFR § 351.309(c)(ii) and 19 CFR § 351.310(c). Rebuttal briefs, limited to issues raised in case briefs, may be filed no later than five days after the time limit for filing the case brief. See 19 CFR § 351.309(d). Any hearing requested will be held 44 days after the date of publication of this notice, or the first working day thereafter. Parties who submit arguments are requested to submit with the argument: (1) A statement of the issue, (2) a brief summary of the argument, and (3) a table of authorities. Further, parties submitting written comments should provide the Department with an additional copy of the public version of any such comments on diskette. Unless the deadline for issuing the final results of review is extended, the Department will issue the final results of review, which will include the results of its analysis of issues raised in written comments, or at a hearing, within 120 days of publication of this preliminary notice.

This notice is issued and published in accordance with sections 751(a)(1) and 777(i)(1) of the Tariff Act of 1930, as amended, and 19 CFR § 351.213(d).

Dated: July 7, 2006.
Stephen J. Claeys,
Deputy Assistant Secretary for Import Administration.

[FR Doc. E6-11122 Filed 7-13-06; 8:45 am]

BILLING CODE 3510-DS-S